ENVIRONMENTAL PROTECTION AGENCY

[FRL-8222-3]

Notice of a Public Meeting to Discuss the Draft Simultaneous Compliance Guidance Manual for the Stage 2 Rules

AGENCY: Environmental Protection Agency.

ACTION: Notice of public meeting.

SUMMARY: The U.S. Environmental Protection Agency (EPA) is holding a public meeting to discuss the draft Simultaneous Compliance Guidance Manual for Stage 2 Rules. This meeting will discuss the purpose and organization of the draft. The Agency will present the process for the public to provide suggestions and recommendations to strengthen the technical basis and make the manual more user-friendly.

DATES: The public meeting will be held on Thursday, October 26, 2005, from 1 p.m. to 5 p.m., Eastern time (ET).

ADDRESSES: The meeting will be held on the first floor of the East Building of EPA Headquarters in Room 1153. The address is EPA East, 1201 Constitution Ave., NW., Washington, DC 20004.

FOR FURTHER INFORMATION CONTACT: For general information about this meeting, contact Sarah Bahrman by phone at (202) 564-2335, by e-mail at bahrman.sarah@epa.gov, or by mail at: U.S. Environmental Protection Agency, Mail Code 4607M, 1200 Pennsylvania Ave., NW., Washington, DC 20460. For technical inquiries, contact Tom Grubbs at (202) 564-5262, or by e-mail: grubbs.thomas@epa.gov.

SUPPLEMENTARY INFORMATION: The purpose of the public meeting is to discuss EPA's Draft Simultaneous Compliance Guidance Manual for Stage 2 Rules. The Draft Simultaneous Compliance Guidance Manual for Stage 2 Rules is available on the EPA Web site at http://www.epa.gov/safewater/disinfection/stage2/compliance.html. EPA is also soliciting suggestions and recommendations to make this draft guidance manual more complete and user-friendly. Reviewers are encouraged to be as specific as possible and to provide references where appropriate. Submit suggestions by e-mail to: stage2mdbp@epa.gov and indicate that the message relates to the “Draft Simultaneous Compliance Guidance Manual for Stage 2 Rules.”

Special Accommodations

Any person needing special accommodations at this meeting, including wheelchair access, should contact Sarah Bahrman at the number or email address listed in the FOR FURTHER INFORMATION CONTACT section of this notice. Requests for special accommodations should be made at least ten days in advance of the meeting.

Dated: September 19, 2006.
Cynthia C. Dougherty,
Director, Office of Ground Water and Drinking Water.

[FR Doc. 06-8055 Filed 9-21-06; 8:45 am]

BILLING CODE 6560-50-P